DEPARTMENT OF HEALTH AND HUMAN SERVICES

Centers for Disease Control and Prevention

[60Day-21-0743; Docket No. CDC-2021-0024]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Assessment and Monitoring of Breastfeeding-Related Maternity Care Practices in Intrapartum Care Facilities in the United States and Territories. The Maternity Practices in Infant Nutrition and Care (mPINC) survey is a census of maternity care hospitals in the United States and territories, that CDC has administered nearly every two years since 2007 in order to monitor and examine changes in breastfeeding-related maternity care over time.

DATES: CDC must receive written comments on or before May 18, 2021.

ADDRESSES: You may submit comments, identified by Docket No. CDC-2021-0024 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Assessment and Monitoring of Breastfeeding-Related Maternity Care Practices in Intrapartum Care Facilities in the United States and Territories (OMB Control No. 0920-0743, Exp. 10/31/2021)—Revision—National Center for Chronic Disease Prevention and Health Promotion (NCCDPHP), Centers for Disease Control and Prevention (CDC).

Background and Brief Description

Substantial evidence demonstrates the social, economic, and health benefits of breastfeeding for both the mother and

infant as well as for society in general. Health professionals recommend at least 12 months of breastfeeding, and Healthy People 2030 establishes specific national breastfeeding goals. In addition to increasing overall rates, a significant public health priority in the U.S. is to reduce variation in breastfeeding rates across population subgroups. Although CDC surveillance data indicate that breastfeeding initiation rates in the United States are climbing, rates for duration and exclusivity continue to lag, and significant disparities persist between Black/African American and White women in breastfeeding rates.

The health care system is one of the most important and effective settings to improve breastfeeding, and the birth hospital stay has a crucial influence on later breastfeeding outcomes. Every two years between 2007-2015, CDC conducted the national survey of Maternity Practices in Infant Nutrition and Care (mPINC survey) in hospitals and free-standing birth centers to better understand national breastfeeding-supportive maternity practices and changes in these practices over time. Breastfeeding supportive maternity care practices have changed rapidly in the past few years, and in 2018 CDC redesigned the survey items to reflect these practice changes. In 2018 and 2020, the revised survey was administered to hospitals that routinely provide maternity care. The survey asks hospital maternity staff to report information about patient education and support for breastfeeding provided to their patients throughout the maternity stay, as well as staff training and maternity care policies.

The 2022 and 2024 mPINC survey methodology will closely match those previously administered. As an ongoing national census of hospitals in the United States and territories that provide maternity care, it does not employ sampling methods. CDC uses the American Hospital Association (AHA) Annual Survey of Hospitals to identify potential participating hospitals. Hospitals invited to participate in the survey include those that participated in previous iterations, those that received an invitation but did not participate in the previous iterations, and those that have become eligible since the most recent mPINC survey. CDC will screen all hospitals with one or more registered maternity beds via a brief phone call to assess their eligibility, identify the appropriate point of contact, and obtain business contact information for the person identified. The response rates for previous iterations of the mPINC survey range from 70%-83%. CDC will provide direct feedback to participating hospital in an individualized, hospital-specific report of their results. CDC will also use information from the mPINC surveys to identify, document, and share information related to changes in practices over time at the hospital, state, and national levels. Researchers also use the data to better understand relationships between hospital characteristics, maternity-care practices, state level factors, and breastfeeding initiation and continuation rates. Participation in the survey is voluntary, and participants submit responses through a secure Web-based system. There are no costs to respondents other than their time. CDC requests OMB approval of 805 annual burden hours for three years to conduct the 2022 and 2024 surveys.

Estimated Annualized Burden Hours
Type of respondent | Form name | Number of respondents | Number of responses per respondent | Average burden per response (in hr) | Total burden (in hr)
Maternity Hospital | Screening Call Script Part A | 2,101 | 1 | 1/60 | 35
Maternity Hospital | Screening Call Script Part B | 1,847 | 1 | 4/60 | 123
Maternity Hospital | mPINC Hospital Survey | 1,293 | 1 | 30/60 | 647
Total |  |  |  |  | 805

Jeffrey M. Zirger,
Lead, Information Collection Review Office, Office of Scientific Integrity, Office of Science, Centers for Disease Control and Prevention.

[FR Doc. 2021-05766 Filed 3-18-21; 8:45 am]

BILLING CODE 4163-18-P